NUCLEAR REGULATORY COMMISSION

[Docket No. 50-443]

North Atlantic Energy Service Corporation, et al.; (Seabrook Station, Unit No. 1); Order Approving Transfer of License and Conforming Amendment

I

Facility Operating License No. NPF-86 authorizes the operation of Seabrook Station, Unit No. 1 (Seabrook Station or the facility), at steady-state power levels not in excess of 3,411 megawatts thermal. The facility is located in Seabrook Township, Rockingham County, New Hampshire, on the southeast coast of the State of New Hampshire. The license authorizes North Atlantic Energy Service Corporation (NAESCO) to possess, use, and operate the facility, and certain other entities discussed below to possess the facility.

II

Under cover of a letter dated May 17, 2002, NAESCO, on its own behalf and on the behalf of certain licensees owning interests in Seabrook Station—North Atlantic Energy Corporation (NAEC), The United Illuminating Company, Great Bay Power Corporation, New England Power Company, The Connecticut Light and Power Company, Canal Electric Company, Little Bay Power Corporation, and New Hampshire Electric Cooperative, Inc.—and FPL Energy Seabrook, LLC (FPLE Seabrook) jointly submitted an application requesting approval of the transfer of Facility Operating License No. NPF-86 for Seabrook Station, to the extent held by the foregoing licensees, to FPLE Seabrook. The applicants also requested approval of a conforming amendment to reflect the transfer. The application was supplemented by submittals dated June 28, July 1, July 24, August 29, and October 11, 2002 (collectively referred to as the “application” herein unless otherwise indicated).

FPLE Seabrook is an indirect, wholly owned subsidiary of FPL Energy, LLC (FPLE), which is a wholly owned subsidiary of FPL Group Capital Inc., which, in turn, is a wholly owned subsidiary of FPL Group Inc. (FPL Group). According to the application, the current licensees owning interests in the facility listed above will sell their ownership interests in Seabrook Station to FPLE Seabrook. In addition, NAESCO will transfer its operating authority under the license to FPLE Seabrook which will assume title to the acquired interests in the facility and operate and maintain Seabrook Station. While the transfer of operating authority and the ownership interests identified in the application is expected to occur at one time, it is possible that certain ownership interests proposed to be transferred will be transferred in a second phase, depending upon the timing of the receipt of other regulatory approvals. Current licensees which own interests in Seabrook Station but are not involved in this license transfer are Massachusetts Municipal Wholesale Electric Company, Taunton Municipal Lighting Plant, and Hudson Light and Power Department, all of which will remain licensees.

The conforming license amendment would remove from the license references to NAESCO and the licensees transferring their interests in the facility and add references to FPL Energy Seabrook, LLC, as a licensee, and make other administrative changes to reflect the proposed transfer.

The application requested approval of the subject transfer of the license and a conforming license amendment pursuant to 10 CFR 50.80 and 50.90. Notice of the requests for approval and an opportunity to request a hearing or submit written comments was published in the Federal Register on June 14, 2002 (67 FR 40972). The Commission received no requests for hearing or written comments.

Under 10 CFR 50.80, no license, or any right thereunder, shall be transferred, directly or indirectly, through transfer of control of the license, unless the Commission shall give its consent in writing. After reviewing the information submitted in the application and other information before the Commission, and relying upon the representations and agreements contained in the application, the Nuclear Regulatory Commission (NRC) staff has determined that FPLE Seabrook is qualified to be the holder of the license to the extent proposed in the application, and that the transfer of the license to FPLE Seabrook is otherwise consistent with applicable provisions of law, regulations, and orders issued by the Commission, subject to the conditions set forth below. The NRC staff has further found that the application for the proposed license amendment complies with the standards and requirements of the Atomic Energy Act of 1954, as amended (the Act), and the Commission's rules and regulations set forth in 10 CFR Chapter I; the facility will operate in conformity with the application, the provisions of the Act, and the rules and regulations of the Commission; there is reasonable assurance that the activities authorized by the proposed license amendment can be conducted without endangering the health and safety of the public and that such activities will be conducted in compliance with the Commission's regulations; the issuance of the proposed license amendment will not be inimical to the common defense and security or the health and safety of the public; and the issuance of the proposed license amendment will be in accordance with 10 CFR part 51 of the Commission's regulations and all applicable requirements have been satisfied. The findings set forth above are supported by the staff's safety evaluation dated October 25, 2002.

III

Accordingly, pursuant to sections 161b, 161i, and 184 of the Atomic Energy Act of 1954, as amended, 42 U.S.C. 2201(b), 2201(i), and 2234; and 10 CFR 50.80, it is hereby ordered that the transfer of the license as described herein to FPLE Seabrook is approved, subject to the following conditions:

(1) Before the transfer of operating authority and completion of the sale and transfer of any interest in Seabrook Station to FPLE Seabrook, FPLE Seabrook shall provide the Director of the Office of Nuclear Reactor Regulation satisfactory documentary evidence that FPLE Seabrook has obtained the appropriate amount of insurance required of licensees under 10 CFR part 140 of the Commission's regulations.

(2) On the closing date(s) of the transfer of any ownership interests in Seabrook Station covered by this Order, FPLE Seabrook shall obtain from each respective transferring owner all of the accumulated decommissioning trust funds for the facility, and ensure the deposit of such funds and additional funds, if necessary, into a decommissioning trust or trusts for Seabrook Station established by FPLE Seabrook, such that the amount of funds deposited meets or exceeds the amount required under 10 CFR 50.75 with respect to the interest in Seabrook Station FPLE Seabrook acquires on such dates(s).

(3) With respect to the decommissioning trust(s) established by FPLE Seabrook,

(i) The decommissioning trust agreement must be in a form acceptable to the NRC.

(ii) Investments in the securities or other obligations of FPL Group Inc. or its affiliates, successors, or assigns shall be prohibited. In addition, except for investments tied to market indexes or other non-nuclear-sector mutual funds, investments in any entity owning one or more nuclear power plants shall be prohibited.

(iii) The decommissioning trust agreement must provide that no disbursements or payments from the trust(s), other than for ordinary administrative expenses, shall be made by the trustee unless the trustee has first given the NRC 30 days prior written notice of payment. The decommissioning trust agreement shall further provide that no disbursements or payments from the trust(s) shall be made if the trustee receives prior written notice of objection from the Director of the Office of Nuclear Reactor Regulation.

(iv) The decommissioning trust agreement must provide that the agreement cannot be amended in any material respect without 30 days prior written notification to the Director of the Office of Nuclear Reactor Regulation.

(v) The appropriate section of the decommissioning trust agreement shall provide that the trustee, investment advisor, or anyone else directing the investments made in the trust(s) shall adhere to a “prudent investor” standard, as specified in 18 CFR 35.32(a)(3) of the Federal Energy Regulatory Commission's regulations.

(4) FPLE Seabrook shall take all necessary steps to ensure that the decommissioning trust(s) are maintained in accordance with the application and the requirements of this Order, and consistent with the safety evaluation supporting this Order.

(5) FPLE Seabrook shall take no action to cause FPL Group Capital, Inc. or its parent companies to void, cancel, or modify the Support Agreement to provide funding of up to $110 million for FPLE Seabrook as represented in the application without prior written consent of the Director of the Office of Nuclear Reactor Regulation.

(6) After receipt of all required regulatory approvals of the transfer of the subject interests in Seabrook Station, NAESCO and FPLE Seabrook shall inform the Director of the Office of Nuclear Reactor Regulation in writing of such receipt within 5 business days, and of the closing date(s) of the transfer no later than 2 business days prior to the date of closing. If the transfer of the license as approved by this Order is not completed by October 31, 2003, this Order shall become null and void, provided, however, on written application and for good cause shown, this date may be extended in writing.

It is further ordered that, consistent with 10 CFR 2.1315(b), changes to the license, as indicated in Enclosure 2 to the cover letter forwarding this Order, to conform the license to reflect the subject license transfer are approved. An amendment, or amendments should the transfer of the interests in Seabrook Station occur in more than one phase, incorporating the approved changes as appropriate to reflect the transfer of interests occurring, shall be issued and made effective at the time the proposed transfer of interests in the facility occurs.

This Order is effective upon issuance.

For further details with respect to this Order, see the initial application dated May 17, 2002, the supplemental letters dated June 28, July 1, July 24, August 29, and October 11, 2002, and the safety evaluation dated October 25, 2002, which are available for public inspection at the Commission's Public Document Room, located at One White Flint North, 11555 Rockville Pike (first floor), Rockville, Maryland, and accessible electronically through the ADAMS Public Electronic Reading Room link at the NRC Web site (http://www.nrc.gov).

Dated at Rockville, Maryland, this 25th day of October 2002.
For the Nuclear Regulatory Commission.
Samuel J. Collins,
Director, Office of Nuclear Reactor Regulation.

[FR Doc. 02-27862 Filed 10-31-02; 8:45 am]

BILLING CODE 7590-01-P